DEPARTMENT OF COMMERCE

National Oceanic and Atmospheric Administration

[I.D. 081000B]

New England Fishery Management Council; Public Meetings

AGENCY: National Marine Fisheries Service (NMFS), National Oceanic and Atmospheric Administration (NOAA), Commerce.

ACTION: Notice of public meetings.

SUMMARY: The New England Fishery Management Council (Council) is scheduling a number of public meetings of its oversight committees and advisory panels in September, 2000 to consider actions affecting New England fisheries in the exclusive economic zone (EEZ). Recommendations from these groups will be brought to the full Council for formal consideration and action, if appropriate.

DATES: The meetings will be held between September 6 and September 20, 2000. See SUPPLEMENTARY INFORMATION for specific dates and times.

ADDRESSES: Meetings will be held in Danvers, Mansfield and Wakefield, MA and Warwick, RI. See SUPPLEMENTARY INFORMATION for specific locations.

FOR FURTHER INFORMATION CONTACT: Paul J. Howard, Executive Director, New England Fishery Management Council (978) 465-0492.

SUPPLEMENTARY INFORMATION:

Meeting Dates and Agendas

Wednesday, September 6, 2000, 9:30 a.m.—Capacity Committee Meeting.

Location: Holiday Inn, Mansfield, 31 Hampshire Street, Mansfield, MA 02048; telephone: (508) 339-2200; fax: (508) 339-1040.

The Capacity Committee will review analyses of proposals to allow the more flexible transfer of fishing permits among fisheries and effort allocations in the multispecies. One proposal would allow multispecies permit holders to acquire additional days-at-sea (DAS) from other permit holders with different rates of reduction of DAS on transfer for active and inactive DAS. Two other proposals would allow the transfer of fishing permits among different fisheries but not allow vessels in the monkfish, scallop and multispecies to acquire additional DAS. A fourth proposal would reduce unused DAS by a small percentage each year unless the DAS were put under a freeze until groundfish stocks were rebuilt.

Monday, September 11, 2000 at 9:30 a.m. and Tuesday, September 12, 2000 at 9:00 a.m.—Joint Meeting of the Groundfish Committee and Advisors.

Location: King's Grant Inn, Route 128 at Trask Lane, Danvers, MA 01923; telephone: (978) 774-6800; fax: (978) 774-6502.

The Committee and Advisors will conduct a joint meeting to continue development of management options for Amendment 13 to the Northeast Multispecies Fishery Management Plan. Since April, the Committee has been identifying a wide range of possible management measures for this Amendment. The Committee and Advisors will now refine those measures into coherent management programs that will be developed into a draft supplemental environmental impact statement and public hearing document. The Committee and Advisors are focusing on three broad approaches to groundfish management: revisions to the measures currently in place, an area-based management system, and a sector allocation system. All three approaches will be discussed at this meeting and choices will be made on the specifics of each proposal that will be recommended to the Council later this year. In addition, the Committee and Advisors will review updated assessment information on groundfish stocks, if available, and may develop preliminary recommendations on the rebuilding schedules that will be used in this Amendment. The Committee and Advisors will also consider information from the Council's Groundfish Overfishing Definitions Review Panel and will consider, and develop recommendations for, further review or changes to specific overfishing definitions.

Tuesday, September 19, 2000 at 9:30 a.m.—Joint Meeting of the Groundfish Committee and Advisors.

Location: Sheraton Colonial Hotel, One Audubon Road, Wakefield, MA 01880; telephone: (781) 245-9300; fax: (781) 245-0842.

On September 19, The Committee and Advisors will conduct a joint meeting to continue development of management options for Amendment 13 to the Northeast Multispecies Fishery Management Plan. Further selection and development of the management measures under consideration will continue. The Committee and Advisors are focusing on three broad approaches to groundfish management: revisions to the measures currently in place, an area-based management system, and a sector allocation system. All three approaches will be discussed at this meeting and choices will be made on the specifics of each proposal that will be recommended to the Council later this year. In addition, the Committee and Advisors will review updated assessment information on groundfish stocks, if available, and may develop preliminary recommendations on the rebuilding schedules that will be used in this Amendment. The Committee and Advisors will also consider information from the Council's Groundfish Overfishing Definitions Review Panel and will consider, and develop recommendations for, further review or changes to specific overfishing definitions. The Committee and Advisors may also consider preliminary information from the Multispecies Monitoring Committee.

Wednesday, September 20, 2000, at 9:30 a.m.—Skate Committee Meeting.

Location: Radisson Airport Hotel, 2081 Post Road, Warwick, RI 02886; telephone: (401) 739-3000; fax: (401) 732-9309.

At its first meeting, the Skate Committee will review the Skate Stock Assessment and Fishery Evaluation (SAFE) Report, which will be presented by the Skate Plan Development Team (PDT). The Committee will discuss some of the details regarding the development of the Skate Fishery Management Plan (FMP) and will identify issues for staff to develop into a “scoping” document for the Skate FMP. At the end of the meeting, the Committee will convene a closed session to review Advisory Panel applications and nominate individuals to serve on the Skate Advisory Panel.

Although non-emergency issues not contained in this agenda may come before this Council for discussion, in accordance with the Magnuson-Stevens Fishery Conservation and Management Act, those issues may not be the subject of formal Council action during this meeting. Council action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: August 10, 2000.
Richard W. Surdi,
Acting Director, Office of Sustainable Fisheries, National Marine Fisheries Service.

[FR Doc. 00-20843 Filed 8-16-00; 8:45 am]

BILLING CODE 3510-22-F